DEPARTMENT OF TRANSPORTATION

Federal Motor Carrier Safety Administration

[Docket No. FMCSA-2014-0071]

Hours of Service of Drivers: McKee Foods Transportation, LLC, Application for Exemption

AGENCY: Federal Motor Carrier Safety Administration (FMCSA), DOT.

ACTION: Notice of application for renewal of exemption; extension of comment period.

SUMMARY: FMCSA reopens the comment period for its July 10, 2024, notice requesting public comment on an application from McKee Foods Transportation, LLC (MFT) for a renewal of its exemption from the hours-of-service regulation pertaining to the use of a sleeper berth. FMCSA has added a supplemental document to the docket titled “McKee Foods Transportation Sleeper-Berth Exemption Provisions Interpretation.” FMCSA reopens the comment period to allow the public an opportunity to review MFT's application for renewal of its exemption along with the supplemental document available for review in the docket.

DATES: Comments must be received on or before November 21, 2024.

FOR FURTHER INFORMATION CONTACT: Ms. Pearlie Robinson, FMCSA Driver and Carrier Operations Division; Office of Carrier, Driver and Vehicle Safety Standards; FMCSA; 1200 New Jersey Avenue SE, Washington, DC 20590-0001; (202) 366-4225; or pearlie.robinson@dot.gov. If you have questions on viewing or submitting material to the docket, contact Docket Services, telephone (202) 366-9826.

SUPPLEMENTARY INFORMATION:

I. Public Participation and Request for Comments

Instructions and additional information concerning submitting comments may be viewed under the ADDRESSES heading and in section I of the SUPPLEMENTARY INFORMATION heading in the July 10, 2024, notice of MFT's exemption renewal application at 89 FR 56787-56788.

II. Background

FMCSA published a notice of MFT's application to renew its exemption “for the maximum available period” from the sleeper berth requirements, which previously were set forth in 49 CFR 395.1(g)(1)(ii)(A) and (B) on July 10, 2024, with a comment deadline of August 9, 2024. That notice sought public comment on the renewal application but did not include the supplemental document titled “McKee Foods Transportation Sleeper-Berth Exemption Provisions Interpretation” in the docket. FMCSA believes that potential commenters should have an opportunity to review both documents. Accordingly, FMCSA reopens the comment period for all comments on MFT's application for renewal of its exemption in light of the supplemental document explaining the interpretation of the exemption.

Larry W. Minor,
Associate Administrator for Policy.

[FR Doc. 2024-24451 Filed 10-21-24; 8:45 am]

BILLING CODE 4910-EX-P